DEPARTMENT OF COMMERCE

National Oceanic and Atmospheric Administration

[I.D. 041701B]

Endangered Species; Permits

AGENCY: National Marine Fisheries Service (NMFS), National Oceanic and Atmospheric Administration (NOAA), Commerce.

ACTION: Receipt of request to modify a scientific research permit 1227; issuance of modification #1 to permit 1236 and modification #1 to permit 1254.

SUMMARY: Notice is hereby given of the following actions regarding permits for takes of endangered and threatened species for the purposes of scientific research and/or enhancement under the Endangered Species Act (ESA): NMFS has received a request to modify permit (1227) from Dr. Peter Dutton, of NMFS-SWFSC; NMFS has issued modification #1 to permit 1236 to Dr. John A. Musick, PhD., of the College of William and Mary (1236) and NMFs has issued modification #1 to permit 1254 to Dynegy Northest Generation, Inc. (1254).

DATES: Comments or requests for a public hearing on the modification request must be received at the appropriate address or fax number no later than 5 p.m. eastern standard time on June 1, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Threatened and endangered Olive ridley turtle (Lepidochelys olivacea)

Fish

Endangered Shortnose Sturgeon (Acipenser brevirostrum)

Modification Requests Received

Permit #1227

The applicant requests a modification to permit 1227. Permit 1227 authorizes the capture of up to five leatherback turtles in breakaway hoop nets for the purpose of collecting genetic samples and attaching satellite transmitters to the animals. Modification #1 would increase the authorized annual take from five animals to 100 animals. All of the animals would be measured, flipper tagged, PIT tagged, have a tissue sample collected and then be released. Up to 20 of these animals would have satellite transmitters attached to them via a harness.

Permits and Modified Permits Issued

Permit #1236

Notice was published on April 14, 2000 (65 FR 20138), that Dr. John A. Musick, PhD., of the College of William and Mary applied for a scientific research. Permit #1236 was issued on October 10, 2000. During the review of permit #1236 part of the proposed permit was separated from the package for additional comment and review. This portion is now being issued as modification #1 to permit 1236. Modification #1 authorizes the take of listed sea turtles in the coastal waters of the Chesapeake Bay. Research conducted in the Chesapeake Bay will study inter-nesting movements of sea turtles in Virginia via satellite telemetry. The study will capture, handle, tag (PIT, flipper, satellite, radio and acoustic), collect biological samples (via humeral bone biopsy, blood samples and laparoscopy) and release loggerhead, green , Kemp’s ridley, and leatherback turtles. Modification #1 to permit 1236 was issued on April 10, 2001, authorizing take of listed species. Permit 1236 expires June 30, 2005.

Permit #1254

Notice was published on February 8, 2001 (66 FR 8560), that Mr. Martin Daley, of Dynegy Northeast Generation (DNG) applied for a modification to 1254. For modification #1, DNG requested the removal of Central Hudson Gas and Electric (CHGE) from the permit as a result of the completed sale of the Roseton and Danskammer Point power plants from CHGE to DNG. Modification #1 to Permit 1254 was issued on April 13, 2001, authorizing take of listed species. Permit 1254 expires August 31, 2005.

Dated: April 26, 2001.
Phil Williams,
Acting Chief, Endangered Species Division, Office of Protected Resources, National Marine Fisheries Service.

[FR Doc. 01-11018 Filed 5-1-01; 8:45 am]

BILLING CODE 3510-22-S